DEPARTMENT OF THE INTERIOR

National Park Service

National Register of Historic Places; Notification of Pending Nominations

Nominations for the following properties being considered for listing in the National Register were received by the National Park Service before August 3, 2002. Pursuant to section 60.13 of 36 CFR part 60 written comments concerning the significance of these properties under the National Register criteria for evaluation may be forwarded by United States Postal Service, to the National Register Historic Places, National Park Service, 1849 C St. NW., NC400, Washington, DC 20240; by all other carriers, National Register of Historic Places, National Park Service, 800 N. Capitol St., NW., Suite 400, Washington DC 20002; or by fax, 202-343-1836. Written or faxed comments should be submitted by September 13, 2002.

(15 days after publication date)

Carol D. Shull,
Keeper of the National Register of Historic Places.

ARKANSAS

Clark County

Cobb—Weber House, 307 N. 6th St., Arkadelphia, 02000956

Garland County

King—Neimeyer—Mathis House, 2145 Malvern Rd., Hot Springs, 02000955

Ouachita County

HOMER, The (Shipwreck), Address Restricted, Camden, 02000979

CALIFORNIA

San Bernardino County

Fossil Canyon Petroglyph Site, Address Restricted, Barstow, 02000980

FLORIDA

Hillsborough County

Bing Rooming House, 205 S. Allen St., Plant City, 02001009

Martin County

Mount Elizabeth Archeological Site, 1707 NE Indian River Dr., Jensen Beach, 02001011

Palm Beach County

Hurricane of 1928 African American Mass Burial Site, Jct. of 25th St. and Tamarind Ave., West Palm Beach, 02001012

Sarasota County

Bispham—Wilson Historic District, 4613 S. Tamiami Trail, Sarasota, 02001010

IOWA

Linn County

Bowman, James W. and Ida G., House, 1372 8th Ave., Marion, 02001015

Lane, Samuel M., House, 1776 8th Ave., Marion, 02001014

Pucker Street Historic District, Bounded by 13th St., 9th Ave., 20th St., and 8th Ave., Marion, 02001013

Pyle, Glenn O. and Lucy O., House, 1540 8th Ave., Marion, 02001016

LOUISIANA

St. Tammany Parish

Cousin, Francois, House, (Louisiana's French Creole Architecture MPS) 28061 Main St., Lacombe, 02000982

Tangipahoa Parish

Hammond Historic District (Boundary Increase), Cypress St., Hammond, 02000981

MISSOURI

Platte County

Pleasant Ridge United Baptist Church, Jct. of MO P and Woodruff Rd., Weston, 02000990

St. Louis County

Bellecourt Apartments, 1107-1123 Bellevue Ave., Richmond Heights, 02000983

St. Louis Independent City

Mount Cabanne—Raymond Place Historic District, Roughly bounded by Kingshighway Blvd., Page Blvd., Union Blvd., and Delmar Blvd., St. Louis (Independent City), 02000984

NEW HAMPSHIRE

Hillsborough County

Brick Schoolhouse, 432 NH 123, Sharon, 02000957

Smith, Gov. John Butler, House, 62 School St., Hillsborough, 02000959

Merrimack County

Bennett Farm, 11 Bennett Rd., Henniker, 02000960

Rockingham County

Deerfield Center Historic District, 1 Candia Rd., 1-14 Old Center Road South, Deerfield, 02000958

NEW YORK

Suffolk County

Twyford, Saint Mark's Ln., Islip, 02000964

NORTH CAROLINA

Cherokee County

First Baptist Church, 101 Chestnut St., Andrews, 02000962

Chowan County

Edenton Station, United States Fish and Fisheries Commission, 200 blk. Old Fish Hatchery Rd., Edenton, 02000961

Cleveland County

Central Shelby Historic District (Boundary Increase), Roughly bounded by E. Elm, S. Lafayette, Blanton, N. Thompson, W. Sumter, N. Lafayette, Kendal, & S. Delalb Sts., Shelby, 02000963

Craven County

Smith Jr., Isaac H., House, 605 Johnson St., New Bern, 02000965

Cumberland County

Stedman, Frank H., House, 1516 Morganton Rd., Fayetteville, 02000966

Edgecombe County

Edgemont Historic District (Boundary Increase), Roughly bounded by Cokey Rd., George St., Eastern Ave., Edgewood St., and School St., Rocky Mount, 02000989

Porter Houses and Armstrong Kitchen, 821 Wells Rd., Whitakers, 02000988

Gaston County

Belmont Hosiery Mill, 608 S. Main St., Belmont, 02000987

Mayworth School, 236 Eighth Ave., Cramerton, 02000986

Guilford County

Buffalo Presbyterian Church and Cemetery, 800 and 803 Sixteenth St., Greensboro, 02000985

OKLAHOMA

Beckham County

Sayre Downtown Historic District, Main and Fourth Sts., Sayre, 02000972

Creek County

Sapulpa Downtown Historic District, Roughly bounded by Hobson Ave., Elm St., Lee Ave., and Main St., Sapulpa, 02000975

Lincoln County

St. Paul Baptist Church and Cemetery, 4.25 mi. N, 1.5 mi. W of Jct. U.S. 62 amd OK 18, Meeker, 02000973

McCurtain County

Rouleau Hotel, 20 E. Main St., Idabel, 02000974

Oklahoma County

Hopewell Baptist Church, (Bruce Goff Designed Resources in Oklahoma MPS) 5801 NW 178th St., Edmond, 02001018

Osage County

Marland Filling Station, 102 South Wood, Hominy, 02000970

OKLAHMOA

Tulsa County

Parriott, Foster B., House, 2216 E. 30th St., Tulsa, 02000971

OREGON

Jackson County

Siskiyou—Hargandine Historic District, Roughly bounded by East Main, Morse, Beach, Iowa, and Pioneer Sts., Ashland, 02001008

Multnomah County

Armstrong, Alfred J. and Georgia A., House, 509 NW Prescott St., Portland, 02001017

Irvington Bowman Apartments, 1825 and 1835 NE 16th Ave., Portland, 02000968

West Coast Woods Model Home, 7211 N. Fowler Ave., Portland, 02000969

PENNSYLVANIA

Somerset County

Wolf, Penrose, Building, 450 Main St., Rockwood, 02000967

TEXAS

Dallas County

G & J Manufacturing, 3912 Willow St., Dallas, 02000992

Grayson County

Hall Furniture Building, 118 W. Lamar, Sherman, 02000994

Smith County

Moore Grocery Co. Building, 408 N. Broadway, Tyler, 02000991

Tyler Grocery Company, (Tyler, Texas MPS) 416 N. Broadway, Tyler, 02000993

Williams—Anderson House, (Tyler, Texas MPS) 1313 W. Claude St., Tyler, 02000995

VIRGINIA

Charlotte County

Maple Roads, 1325 Richardson Rd., Keysville, 02000999

Franklin County

Booth—Lovelace House, 130 Lovelace Ln., Hardy, 02000996

Goochland County

Dover Slave Quarter Complex, 845 Dover Rd., Manakin-Sabot, 02001005

Hopewell Independent City

Downtown Hopewell Historic District, Boundary includes Main St., Appomattox St., Hopewell St., and East Broadway, Hopewell (Independent City), 02000977

Loudoun County

Woodgrove, 16860 Woodgrove Rd., Round Hill, 02001004

Louisa County

Longwood, 924 Longwood Dr., Gordonville, 02000998

Newport News Independent City

Medical Arts Building, 2901 West Avenue, Newport News (Independent City), 02001001

Portsmouth Independent City

Shea Terrace Elementary School, 253 Constitution Ave., Portsmouth (Independent City), 02001002

Richmond Independent City

Todd, E.M., Company, 1128 Hermitage Rd., Richmond (Independent City), 02000997

Roanoke Independent City

Roanoke Downtown Historic District, Roughly bounded by 3rd St., Norfolk Ave., Jefferson St., and Bullitt Ave., Roanoke (Independent City), 02000978

Rockbridge County

Marlbrook, 4973 Forge Rd., Glasgow, 02001000

Sunnyside, 160 Kendal Dr., Lexington, 02001003

Scott County

Fulkerson—Hilton House, Address Restricted, Hiltons, 02001006

Suffolk Independent City

Suffolk Historic District (Boundary Increase II), Roughly bounded by N and W RR tracks, County St., and Liberty St., Bank St., Market St., Clay St. and Poplar Sts., Suffolk (Independent City), 02000976

WISCONSIN

Bayfield County

Palo, John and Justina, Homestead, 71055 Muskeg Rd., Oulu, 02001007

A request for REMOVAL has been made for the following resources:

ARKANSAS

Lawrence County

French, Alice, House, AR 28, Clover Bend vicinity, 76000425

Pulaski County

Cook House, 116 W. 7th St., North Little Rock, 93001250

Randolph County

Bates, Daniel V., House, US 67, Pocahontas, 79000457

Foster, Josiah, Building, 222 Garrison Ave., Fort Smith, 78000631

Woodruff County

Augusta Bridge (Historic Bridges of Arkansas MPS), US 64, over the White River Augusta, 90000505

[FR Doc. 02-21990 Filed 8-28-02; 8:45 am]

BILLING CODE 4310-70-P